DEPARTMENT OF THE INTERIOR

Fish and Wildlife Service

[FWS-R8-ES-2009-N0085; 1112-0000-80221-F2]

Tehachapi Uplands Multiple Species Habitat Conservation Plan, Kern County, CA

AGENCY: Fish and Wildlife Service, Interior.

ACTION: Notice of extension of the public comment period for the draft environmental impact statement and draft habitat conservation plan in support of an incidental take permit application.

SUMMARY: We the U.S. Fish and Wildlife Service (Service), advise the public that we are extending the public comment period for the Tejon Ranchcorp's incidental take application (ITP), draft Environmental Impact Statement (DEIS), and draft Tehachapi Uplands Multiple Species Habitat Conservation Plan (TUMSHCP). See SUPPLEMENTARY INFORMATION for details.

DATES: Submit comments on these documents on or before July 7, 2009.

FOR FURTHER INFORMATION CONTACT: Steve Kirkland, U.S. Fish and Wildlife Service, at 805-644-1766 extension 267.

SUPPLEMENTARY INFORMATION: We are extending the public comment period on the ITP application, DEIS, and TUMSHCP (74 FR 6050, February 4, 2009), in response to requests from the public for a 60-day extension, in order to allow additional time for document review. This extension also will provide the public and Federal, State, Tribal, and local agencies with an additional opportunity to submit information and comments on these draft documents. Before including your address, phone number, e-mail address, or other personal identifying information in your comment, you should be aware that your entire comment—including your personal identifying information—may be made publicly available at any time. While you may ask us in your comment to withhold your personal identifying information from public review, we cannot guarantee that we will be able to do so.

If you previously submitted comments, you need not resubmit them; we have already incorporated them into the public record and will fully consider them in finalizing these documents.

For background and more information on the applicant's proposed action, as well as how to review the ITP application, draft TUMSHCP, and draft EIS and submit comments or information, see our February 4, 2009, notice (74 FR 6050). Please refer to TE-204887-0 when requesting documents or submitting comments.

Authority

We provide this notice under section 10(c) of the Endangered Species Act (16 U.S.C. 1531 et seq.) and its implementing regulations (50 CFR 17.22) and the National Environmental Policy Act (42 U.S.C. 4371 et seq.) and its implementing regulations (40 CFR 1506.6).

Dated: April 29, 2009.
Margaret Kolar,
Acting Deputy Regional Director, Pacific Southwest Nevada Region, Sacramento, California.

[FR Doc. E9-10286 Filed 5-4-09; 8:45 am]

BILLING CODE 4510-55-P